DEPARTMENT OF AGRICULTURE

Forest Service

Information Collection; Request for Comments; Fuelwood and Post Assessment in Selected States

AGENCY: Forest Service, USDA.

ACTION: Notice.

SUMMARY: In accordance with the Paperwork Reduction Act of 1995, the Forest Service announces its intention to extend the information collection, Fuelwood and Post Assessment in Selected States. The information is collected from residential households and logging contractors. Forest Service personnel use this information to evaluate trends in the use of logs and wood chips, to forecast anticipated demands for logs and wood chips, and to analyze changes in the harvest of these resources.

DATES: Comments on this notice must be received in writing on or before June 1, 2004.

ADDRESSES: Comments concerning this notice should be addressed to Michael Howell, Forest Inventory and Analysis, Southern Research Station, Forest Service, USDA, 4700 Old Kingston Pike, Knoxville, TN 37919-5206.

Comments also may be submitted via facsimile to (865) 862-2048 or by e-mail to mhowell@fs.fed.us.

The public may inspect comments received at Resource Use Office, Southern Research Station, Forest Service, USDA, 4700 Old Kingston Pike, Knoxville, Tennessee, during normal business hours. Visitors are encouraged to call ahead to (865) 862-2000 to facilitate entry to the building.

FOR FURTHER INFORMATION CONTACT: Michael Howell, Southern Research Station, at (865) 862-2054.

SUPPLEMENTARY INFORMATION: Title: Residential Fuelwood and Post Assessment.

OMB Number: 0596-0009.

Expiration Date of Approval: March 31, 2004.

Type of Request: Extension.

Abstract: The Forest and Rangeland Renewable Resource Research Act of 1978 and the Energy Security Act of 1980 require the Forest Service to evaluate trends in the use of logs and wood chips, to forecast anticipated demands for logs and wood chips, and to analyze changes in the harvest of these resources.

Forest Service personnel collect the information from individual households and fuelwood logging firms through telephone interviews and through the use of the questionnaire, Residential Fuelwood and Post Assessment, which will be mailed to respondents and returned voluntarily via surface mail to the agency.

Respondents answer questions that include the quantity of fuelwood burned, the variety of tree species burned for fuelwood, and the geographic locations from which the fuelwood was procured. The Residential Fuelwood and Post Assessment questionnaire also includes the State and calendar year for which information will be collected.

Forest Service personnel evaluate the information collected to monitor the volume, types, species, and sources of fuelwood harvested. The collected data will provide essential information about the current drain on the Nation's timber resources for fuelwood.

The information is collected at the following Forest Service research stations: Northeast Research Station, Radnor, Pennsylvania; North Central Research Station, St. Paul, Minnesota; Southern Research Station, Asheville, North Carolina; Rocky Mountain Research Station, Ogden, Utah; and Pacific Northwest Research Station, Portland, Oregon.

Data from this collection of information are not available from other sources.

Estimate of Annual Burden: 0.07 hours.

Type of Respondents: Residential households and logging contractors.

Estimated Annual Number of Respondents: 2,425.

Estimated Annual Number of Responses per Respondent: 1.

Estimated Total Annual Burden on Respondents: 170 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will become a matter of public record and will be available for public inspection and copying. Comments will be summarized and included in the request for Office of Management and Budget approval.

Dated: March 25, 2004.
Barbara C. Weber,
Associate Deputy Chief for Research & Development.

[FR Doc. 04-7160 Filed 3-30-04; 8:45 am]

BILLING CODE 3410-11-P